DEPARTMENT OF COMMERCE

International Trade Administration

[A-570-084]

Certain Quartz Surface Products From the People's Republic of China: Postponement of Preliminary Determination in the Less-Than-Fair-Value Investigation

AGENCY: Enforcement and Compliance, International Trade Administration, U.S. Department of Commerce.

DATES: Applicable August 28, 2018.

FOR FURTHER INFORMATION CONTACT: Andrew Medley, Blaine Wiltse, or Whitley Herndon at (202) 482-4987, (202) 482-6345, or (202) 482-6274, respectively; AD/CVD Operations, Office II, Enforcement and Compliance, International Trade Administration, U.S. Department of Commerce, 1401 Constitution Avenue NW, Washington, DC 20230.

SUPPLEMENTARY INFORMATION:

Background

On May 7, 2018, the Department of Commerce (Commerce) initiated a less-than-fair value (LTFV) investigation of imports of certain quartz surface products from the People's Republic of China.¹ Currently, the preliminary determination is due no later than September 24, 2018.

¹ See Certain Quartz Surface Products from the People's Republic of China: Initiation of Less-Than-Fair-Value Investigation, 83 FR 22613 (May 16, 2018).

Postponement of the Preliminary Determination

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, and determines that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 24, 2018, Cambria Company LLC (the petitioner) submitted a timely request that we postpone the preliminary determination in this LTFV investigation.² In its request, the petitioner cited its need to review and identify any deficiencies in the respondents' initial questionnaire responses and Commerce's need to issue and receive supplemental questionnaires prior to the preliminary determination. Thus, in accordance with 19 CFR 351.205(e), the petitioner has stated the reasons for requesting a postponement of the preliminary determination, and Commerce finds no compelling reason to deny the request. Therefore, in accordance with section 733(c)(1)(A) of the Act, Commerce is postponing the deadline for the preliminary to no later than 190 days after the date on which this investigation was initiated, i.e., November 13, 2018. Pursuant to section 735(a)(1) of the Act and 19 CFR 351.210(b)(1), the deadline for the final determination will continue to be 75 days after the date of the preliminary determination, unless postponed at a later date.

² See Petitioner's Letter, “Quartz Surface Products from the People's Republic of China: Request to Extend the Preliminary Determination,” dated July 24, 2018.

This notice is issued and published pursuant to section 733(c)(2) of the Act and 19 CFR 351.205(f)(l).

Dated: August 22, 2018.
Gary Taverman,
Deputy Assistant Secretary for Antidumping and Countervailing Duty Operations, performing the non-exclusive functions and duties of the Assistant Secretary for Enforcement and Compliance.

[FR Doc. 2018-18613 Filed 8-27-18; 8:45 am]

BILLING CODE 3510-DS-P